INTERNATIONAL TRADE COMMISSION

[Investigation No. 731-TA-706 (Second Review)]

In the Matter of Canned Pineapple Fruit from Thailand; Notice of Commission Determination To Conduct a Portion of the Hearing In Camera

AGENCY: U.S. International Trade Commission.

ACTION: Closure of a portion of a Commission hearing.

SUMMARY: Upon the timely, joint request of respondents, the Commission has determined to conduct a portion of its hearing in the above-captioned investigation scheduled for January 18, 2007, in camera. See Commission rules 207.24(d), 201.13(m) and 201.36(b)(4) (19 CFR 207.24(d), 201.13(m) and 201.36(b)(4)). The remainder of the hearing will be open to the public.

FOR FURTHER INFORMATION CONTACT: Gracemary R. Roth-Roffy, Esq., Office of the General Counsel, U.S. International Trade Commission, telephone 202-205-3106. Hearing-impaired individuals are advised that information on this matter may be obtained by contacting the Commission's TDD terminal on 202-205-1810.

SUPPLEMENTARY INFORMATION: The Commission believes that Thai Pineapple Canning Industry Corp.; Malee Sampran Public Co., Ltd.; The Siam Agro Industry Pineapples and Others Public Co., Ltd.; Pranburi Hotei Co., Ltd.; Siam Fruit Canning (1988) Co., Ltd.; and Great Oriental Food Products and Other Fruits, Co. Ltd. (“Thai Respondents”) have justified the need for a closed session. Thai Respondents seek a closed session to allow for a discussion of business proprietary information (“BPI”) regarding the sole domestic producer's financial and production operations as well as data relating to subject imports from Thailand. In making this decision, the Commission nevertheless reaffirms its belief that whenever possible its business should be conducted in public.

The hearing will include the usual public presentations by petitioner and by respondents, with questions from the Commission. In addition, the hearing will include a 10-minute in camera session for a confidential presentation by Thai Respondents. Each session will be followed by an in camera rebuttal presentation by petitioner and questions from the Commission relating to the BPI. During the in camera session the room will be cleared of all persons except those who have been granted access to BPI under a Commission administrative protective order (APO) and are included on the Commission's APO service list in this investigation. See 19 CFR 201.35(b). The time for the parties' presentations and rebuttals in the in camera session will be taken from their respective overall allotments for the hearing. All persons planning to attend the in camera portions of the hearing should be prepared to present proper identification.

Authority: The General Counsel has certified, pursuant to Commission Rule 201.39 (19 CFR 201.39) that, in his opinion, a portion of the Commission's hearing in Canned Pineapple Fruit from Thailand, Inv. Nos. 731-TA-706 (Second Review), may be closed to the public to prevent the disclosure of BPI.

Issued: January 16, 2007.
By order of the Commission.
Marilyn R. Abbott,
Secretary to the Commission.

[FR Doc. E7-718 Filed 1-18-07; 8:45 am]

BILLING CODE 7020-02-P